DEPARTMENT OF COMMERCE

Bureau of Industry and Security

15 CFR Parts 740, 742 and 774

[Docket No. 110825537-2038-02]

RIN 0694-AF38

Export and Reexport License Requirements for Certain Microwave and Millimeter Wave Electronic Components: Correction

AGENCY: Bureau of Industry and Security, Commerce.

ACTION: Final rule: Correction.

SUMMARY: This correction adds a compliance date of February 9, 2012, to a final rule published on January 9, 2012 (77 FR 1017). That final rule imposed a license requirement on exports and reexports to all destinations other than Canada of two types of microwave and millimeter wave electronic components. The two components are packaged high electron mobility transistors and packaged microwave “monolithic integrated circuits” power amplifiers that meet certain criteria with respect to frequency range, size and output power. BIS is publishing this correction to make sure exporters and reexporters have sufficient time to comply with the rule.

DATES: Effective date: January 24, 2012.

Compliance date: All exports and reexports on or after February 9, 2012, for which the rule published at 77 FR 1017, January 9, 2012, creates a new license requirement must be in compliance with the terms of that rule.

FOR FURTHER INFORMATION CONTACT: William Arvin, Regulatory Policy Division, Office of Exporter Services, (202) 482-2440, william.arvin@bis.doc.gov.

SUPPLEMENTARY INFORMATION: On January 9, 2012, BIS published a final rule imposing a license requirement on exports and reexports to all destinations other than Canada of two types of microwave and millimeter wave electronic components (77 FR 1017, January 9, 2012, FR Doc. 2012-135). The two components are packaged high electron mobility transistors (HEMT) and packaged microwave “monolithic integrated circuits” (MMIC) power amplifiers that meet certain criteria with respect to frequency range, size and output power. That rule was effective upon publication and did not provide for any delay in compliance. This correction adds a compliance date of February 9, 2012, to provide time for exporters and reexporters upon whom this rule imposes a new license requirement to apply for any necessary licenses. This correction makes no other changes to the rule.

Bernard Kritzer,
Director, Office of Exporter Services.

[FR Doc. 2012-1229 Filed 1-23-12; 8:45 am]

BILLING CODE 3510-33-P